ENVIRONMENTAL PROTECTION AGENCY

[FRL-6966-4]

Technical Workshop on Research Issues Associated With the Gathering and Use of Micro- and Macro-Activity Data

AGENCY: Environmental Protection Agency.

ACTION: Notice of meeting.

SUMMARY: The Environmental Protection Agency (EPA) is announcing a meeting, organized and convened by E.H. Pechan & Associates, Inc., a contractor to EPA's Office of Research and Development, National Exposure Research Laboratory (NERL), for external scientific peer consultation on research issues related to the gathering and use of micro- and macro-level human activity data. The meeting is being held by NERL to discuss the state-of-the-science on human activity data for multi-media, multi-pathway exposure and dose assessments and suggestions on additional research needed to improve the science.

DATES: The meeting will be held from 7:45 a.m. to 5:15 p.m. on May 17, 2001 and from 8:30 a.m. to 1:00 p.m. on May 18, 2001. To register to attend the workshop as an observer, contact Kathy Manwaring of E.H. Pechan & Associates, Inc. at 919-493-3144 x123, email: kathym@pechan.com by May 9, 2001. Space is limited so please register early.

ADDRESSES: The meeting will be held in the main auditorium of the Environmental Research Center of the Environmental Protection Agency in Research Triangle Park, North Carolina, located at the corner of T.W. Alexander Drive and Highway 54.

FOR FURTHER INFORMATION CONTACT: Thomas McCurdy of EPA NERL, tel. 919-541-0782, email: mccurdy.thomas@epa.gov.

SUPPLEMENTARY INFORMATION: In human exposure assessments, macro-activities are general activity descriptors (e.g., “cooking”, “playing games”) that describe what a person is doing in a particular location at a particular time. Micro-activities are those detailed activities (e.g., hand-to-surface, hand-to-mouth, and object-to-mouth contacts) that a person is engaged in during a macro-activity. Information on both macro- and micro-activities is important for accurately quantifying real-time multimedia, multipathway human exposures that account for dermal contact, inhalation, dietary ingestion, and non-dietary ingestion of pollutants.

Although a fair amount of data on macro-activity information exists from surveys, micro-activity data are very limited and expensive to obtain via current methods and protocols. In addition, micro-activity methods and protocols are not standardized, so it often is difficult to combine the limited data that do exist into a coherent database. Thus, there is a need to discuss how micro-activity data should be gathered and reported for maximum usefulness in exposure assessments. There also is a need to determine if the existing macro-activity database can be used to provide useful estimates of micro-activity levels if a functional relationship can be derived between them for specific population groups of interest, especially children. Finally, there is a need to develop research protocols and strategies that simultaneously will provide integrated micro- and macro-activity data for human exposure and dose assessment purposes. Discussing and addressing these needs can help improve quantification of children's aggregate exposures to agricultural pesticides, as required by the Food Quality Protection Act (FQPA) of 1996.

The purpose of the workshop is to solicit—after a sharing of information on the state-of-the-science regarding the subject issues—individual written expert opinion of scientists and analysts on the research needed to address the collection and integration of micro- and macro-activity data in order to improve aggregate exposure and dose assessments of multimedia, multipathway chemicals. NERL specifically is not interested in obtaining a consensus, or joint, recommendation from the meeting participants and observers regarding a possible NERL research strategy/program to obtain better micro-, macro-, or integrated activity information; developing such a strategy and program is an inherently governmental function. The Laboratory is interested, however, in eliciting expert views on what data are needed, and what approaches and methods should be used to most effectively obtain these data.

Dated: March 21, 2001.
Jewel Morris,
Acting Deputy Director, National Exposure Research Laboratory.

[FR Doc. 01-9362 Filed 4-13-01; 8:45 am]

BILLING CODE 6560-50-P